DEPARTMENT OF ENERGY

Federal Energy Regulatory Commission

Combined Notice of Filings

Take notice that the Commission has received the following Natural Gas Pipeline Rate and Refund Report filings:

Filings Instituting Proceedings

Docket Number: PR17-28-000.

Applicants: Bay Gas Storage Company, Ltd.

Description: Tariff filing per 284.123(b),(e)/: Bay Gas 2017 Annual Adjustment to Company Use Percentage to be effective 3/1/2017; Filing Type: 790.

Filed Date: 2/27/17.

Accession Number: 201702275125.

Comments/Protests Due: 5 p.m. ET 3/20/17.

Docket Number: PR17-29-000.

Applicants: Southern California Gas Company.

Description: Tariff filing per 284.123(b),(e)+(g): Revision to rates for Offshore Delivery (OSHD) to be effective 1/1/2017; Filing Type: 1300.

Filed Date: 2/28/17.

Accession Number: 201702285137.

Comments Due: 5 p.m. ET 3/21/17.

284.123(g) Protests Due: 5 p.m. ET 5/1/17.

Docket Numbers: RP17-430-000.

Applicants: Transcontinental Gas Pipe Line Company.

Description: Transcontinental Gas Pipe Line Company, LLC submits tariff filing per 154.204: Negotiated Rates—Cherokee AGL—Replacement Shippers—Mar 2017 to be effective 3/1/2017.

Filed Date: 02/28/2017.

Accession Number: 20170228-5003.

Comment Date: 5:00 p.m. Eastern Time on Monday, March 13, 2017.

Docket Numbers: RP17-431-000.

Applicants: Equitrans, L.P.

Description: Equitrans, L.P. submits tariff filing per 154.204: Assignment of Cross Timbers Agreement to XTO to be effective 4/1/2017.

Filed Date: 02/28/2017.

Accession Number: 20170228-5010.

Comment Date: 5:00 p.m. Eastern Time on Monday, March 13, 2017.

Docket Numbers: RP17-432-000.

Applicants: Midcontinent Express Pipeline LLC.

Description: Midcontinent Express Pipeline LLC submits tariff filing per 154.204: Chesapeake Contract Restructuring Negotiated Rate to be effective 3/1/2017.

Filed Date: 02/28/2017.

Accession Number: 20170228-5020.

Comment Date: 5:00 p.m. Eastern Time on Monday, March 13, 2017.

Docket Numbers: RP17-433-000.

Applicants: Boardwalk Storage Company, LLC.

Description: Boardwalk Storage Company, LLC submits tariff filing per 154.204: Revise FSS and ISS Forms of Service Agreement to be effective4/1/2017.

Filed Date: 02/28/2017.

Accession Number: 20170228-5033.

Comment Date: 5:00 p.m. Eastern Time on Monday, March 13, 2017.

Docket Numbers: RP17-434-000.

Applicants: Gulf South Pipeline Company, LP.

Description: Gulf South Pipeline Company, LP submits tariff filing per 154.204: Cap Rel Neg Rate Agmts (Atlanta 8438 to various shippers eff3-1-2017) to be effective 3/1/2017.

Filed Date: 02/28/2017.

Accession Number: 20170228-5038.

Comment Date: 5:00 p.m. Eastern Time on Monday, March 13, 2017.

Docket Numbers: RP17-435-000.

Applicants: Texas Eastern Transmission, LP.

Description: Texas Eastern Transmission, LP submits tariff filing per 154.204: TETLP Feb2017 Cleanup Filing—Remove Expired Negotiated Rates to be effective 4/1/2017.

Filed Date: 02/28/2017.

Accession Number: 20170228-5051.

Comment Date: 5:00 p.m. Eastern Time on Monday, March 13, 2017.

Docket Numbers: RP17-436-000.

Applicants: Texas Eastern Transmission, LP.

Description: Texas Eastern Transmission, LP submits tariff filing per 154.204: TETLP Feb2017 Cleanup Filing—Non-conforming Agreements to be effective 4/1/2017.

Filed Date: 02/28/2017.

Accession Number: 20170228-5063.

Comment Date: 5:00 p.m. Eastern Time on Monday, March 13, 2017.

Docket Numbers: RP17-437-000.

Applicants: KPC Pipeline, LLC.

Description: KPC Pipeline, LLC submits tariff filing per 154.403(d)(2): Fuel Reimbursement Adjustment to be effective 4/1/2017.

Filed Date: 02/28/2017.

Accession Number: 20170228-5064.

Comment Date: 5:00 p.m. Eastern Time on Monday, March 13, 2017.

Docket Numbers: RP17-438-000.

Applicants: Southern Star Central Gas Pipeline, Inc.

Description: Southern Star Central Gas Pipeline, Inc. submits tariff filing per 154.204: Fuel Filing—Eff. April 1, 2017 to be effective 4/1/2017.

Filed Date: 02/28/2017.

Accession Number: 20170228-5071.

Comment Date: 5:00 p.m. Eastern Time on Monday, March 13, 2017.

Docket Numbers: RP17-439-000.

Applicants: ANR Pipeline Company.

Description: ANR Pipeline Company submits tariff filing per 154.403(d)(2): Fuel Filing 2017 to be effective 4/1/2017.

Filed Date: 02/28/2017.

Accession Number: 20170228-5072.

Comment Date: 5:00 p.m. Eastern Time on Monday, March 13, 2017.

Docket Numbers: RP17-440-000.

Applicants: Empire Pipeline, Inc.

Description: Empire Pipeline, Inc. submits tariff filing per 154.203: Annual Report Pursuant to GT&C 23.5 (Final Report).

Filed Date: 02/28/2017.

Accession Number: 20170228-5074.

Comment Date: 5:00 p.m. Eastern Time on Monday, March 13, 2017.

Docket Numbers: RP17-441-000.

Applicants: Natural Gas Pipeline Company of America.

Description: Natural Gas Pipeline Company of America LLC submits tariff filing per 154.204: City of Salem Negotiated Rate to be effective 4/1/2017.

Filed Date: 02/28/2017.

Accession Number: 20170228-5078.

Comment Date: 5:00 p.m. Eastern Time on Monday, March 13, 2017.

Docket Numbers: RP17-442-000.

Applicants: Equitrans, L.P.

Description: Equitrans, L.P. submits tariff filing per 154.204: AVC Storage Loss Retainage Factor Update—2017 to be effective 4/1/2017.

Filed Date: 02/28/2017.

Accession Number: 20170228-5080.

Comment Date: 5:00 p.m. Eastern Time on Monday, March 13, 2017.

Docket Numbers: RP17-443-000.

Applicants: MarkWest Pioneer, L.L.C.

Description: MarkWest Pioneer, L.L.C. submits tariff filing per 154.403(d)(2): Quarterly FRP Filing to be effective 4/1/2017.

Filed Date: 02/28/2017.

Accession Number: 20170228-5085.

Comment Date: 5:00 p.m. Eastern Time on Monday, March 13, 2017.

Docket Numbers: RP17-444-000.

Applicants: Northwest Pipeline LLC.

Description: Northwest Pipeline LLC submits tariff filing per 154.204: NWP 2017 South Seattle Incremental Rate Update Filing to be effective 4/1/2017.

Filed Date: 02/28/2017.

Accession Number: 20170228-5094.

Comment Date: 5:00 p.m. Eastern Time on Monday, March 13, 2017.

Docket Numbers: RP17-445-000.

Applicants: Northwest Pipeline LLC.

Description: Northwest Pipeline LLC submits tariff filing per 154.204: NWP 2017 Summer Fuel Filing to be effective 4/1/2017.

Filed Date: 02/28/2017.

Accession Number: 20170228-5096.

Comment Date: 5:00 p.m. Eastern Time on Monday, March 13, 2017.

Docket Numbers: RP17-446-000.

Applicants: Southwest Gas Storage Company.

Description: Southwest Gas Storage Company submits tariff filing per 154.204: Fuel Filing on 2-28-17 to be effective 4/1/2017.

Filed Date: 02/28/2017.

Accession Number: 20170228-5100.

Comment Date: 5:00 p.m. Eastern Time on Monday, March 13, 2017.

Docket Numbers: RP17-447-000.

Applicants: Panhandle Eastern Pipe Line Company, LP.

Description: Panhandle Eastern Pipe Line Company, LP submits tariff filing per 154.204: Fuel Filing on 2-28-17 to be effective 4/1/2017.

Filed Date: 02/28/2017.

Accession Number: 20170228-5102.

Comment Date: 5:00 p.m. Eastern Time on Monday, March 13, 2017.

Docket Numbers: RP17-448-000.

Applicants: Trunkline Gas Company, LLC.

Description: Trunkline Gas Company, LLC submits tariff filing per 154.204: Fuel Filing on 2-28-17 to be effective 4/1/2017.

Filed Date: 02/28/2017.

Accession Number: 20170228-5104.

Comment Date: 5:00 p.m. Eastern Time on Monday, March 13, 2017.

Docket Numbers: RP17-449-000.

Applicants: Colorado Interstate Gas Company, L.L.C.

Description: Colorado Interstate Gas Company, L.L.C. submits tariff filing per 154.403(d)(2): Semi-Annual Fuel and LUF Update Filing to be effective 4/1/2017.

Filed Date: 02/28/2017.

Accession Number: 20170228-5108.

Comment Date: 5:00 p.m. Eastern Time on Monday, March 13, 2017.

Docket Numbers: RP17-450-000.

Applicants: Equitrans, L.P.

Description: Equitrans, L.P. submits tariff filing per 154.204: Appalachian Gathering Service Updates to be effective 3/31/2017.

Filed Date: 02/28/2017.

Accession Number: 20170228-5110.

Comment Date: 5:00 p.m. Eastern Time on Monday, March 13, 2017.

Docket Numbers: RP17-451-000.

Applicants: Transcontinental Gas Pipe Line Company.

Description: Transcontinental Gas Pipe Line Company, LLC submits tariff filing per 154.403(d)(2): Transco Annual Fuel Tracker 2017 to be effective 4/1/2017.

Filed Date: 02/28/2017.

Accession Number: 20170228-5113.

Comment Date: 5:00 p.m. Eastern Time on Monday, March 13, 2017.

Docket Numbers: RP17-452-000.

Applicants: Transcontinental Gas Pipe Line Company.

Description: Transcontinental Gas Pipe Line Company, LLC submits tariff filing per 154.403: Annual Electric Power Tracker Filing Effective April 1, 2017 to be effective 4/1/2017.

Filed Date: 02/28/2017.

Accession Number: 20170228-5132.

Comment Date: 5:00 p.m. Eastern Time on Monday, March 13, 2017.

Docket Numbers: RP17-453-000.

Applicants: Rockies Express Pipeline LLC.

Description: Rockies Express Pipeline LLC submits tariff filing per 154.204: Neg Rate 2017-02-28 Encana to be effective 3/1/2017.

Filed Date: 02/28/2017.

Accession Number: 20170228-5154.

Comment Date: 5:00 p.m. Eastern Time on Monday, March 13, 2017.

Docket Numbers: RP17-454-000.

Applicants: Trailblazer Pipeline Company LLC.

Description: Trailblazer Pipeline Company LLC submits tariff filing per 154.204: Neg Rate 2017-03-01 Tenaskas to be effective 3/1/2017.

Filed Date: 02/28/2017.

Accession Number: 20170228-5173.

Comment Date: 5:00 p.m. Eastern Time on Monday, March 13, 2017.

Docket Numbers: RP17-455-000.

Applicants: Iroquois Gas Transmission System, L.P.

Description: Iroquois Gas Transmission System, L.P. submits tariff filing per 154.204: 02/28/17 Negotiated Rates—Emera Energy Services, Inc. 7830-02, -03, 04, & -05 to be effective 3/1/2017.

Filed Date: 02/28/2017.

Accession Number: 20170228-5211.

Comment Date: 5:00 p.m. Eastern Time on Monday, March 13, 2017.

Docket Numbers: RP17-456-000.

Applicants: Florida Gas Transmission Company, LLC.

Description: Florida Gas Transmission Company, LLC submits tariff filing per 154.204: Fuel Filing on 2-28-17 to be effective 4/1/2017.

Filed Date: 02/28/2017.

Accession Number: 20170228-5233.

Comment Date: 5:00 p.m. Eastern Time on Monday, March 13, 2017.

Docket Numbers: RP17-457-000.

Applicants: Dominion Cove Point LNG, LP.

Description: Dominion Cove Point LNG, LP submits tariff filing per 154.403: DCP—2017 Annual EPCA to be effective 4/1/2017.

Filed Date: 02/28/2017.

Accession Number: 20170228-5237.

Comment Date: 5:00 p.m. Eastern Time on Monday, March 13, 2017.

Docket Numbers: RP17-458-000.

Applicants: Dominion Cove Point LNG, LP.

Description: Dominion Cove Point LNG, LP submits tariff filing per 154.403(d)(2): DCP—2017 Annual Fuel Retainage to be effective 4/1/2017.

Filed Date: 02/28/2017.

Accession Number: 20170228-5238.

Comment Date: 5:00 p.m. Eastern Time on Monday, March 13, 2017.

Docket Numbers: RP17-459-000.

Applicants: Sabine Pipe Line LLC.

Description: Sabine Pipe Line LLC submits tariff filing per 154.403(d)(2): Sabine Pipeline Line 2017 Fuel Filing to be effective 4/1/2017.

Filed Date: 02/28/2017.

Accession Number: 20170228-5244.

Comment Date: 5:00 p.m. Eastern Time on Monday, March 13, 2017.

Docket Numbers: RP17-460-000.

Applicants: Equitrans, L.P.

Description: Equitrans, L.P. submits tariff filing per 154.204: 3-1-2017 Formula-Based Negotiated Rates to be effective 3/1/2017.

Filed Date: 02/28/2017.

Accession Number: 20170228-5302.

Comment Date: 5:00 p.m. Eastern Time on Monday, March 13, 2017.

Docket Numbers: RP17-461-000.

Applicants: Texas Eastern Transmission, LP.

Description: Texas Eastern Transmission, LP submits tariff filing per 154.403: PCB TETLP APR 2017 FILING to be effective 4/1/2017.

Filed Date: 02/28/2017.

Accession Number: 20170228-5304.

Comment Date: 5:00 p.m. Eastern Time on Monday, March 13, 2017.

Docket Numbers: RP17-462-000.

Applicants: Equitrans, L.P.

Description: Equitrans, L.P. submits tariff filing per 154.203: Notice Regarding Non-Jurisdictional Gathering Facilities (W-4067 W-4486).

Filed Date: 03/01/2017.

Accession Number: 20170301-5007.

Comment Date: 5:00 p.m. Eastern Time on Monday, March 13, 2017.

Docket Numbers: RP17-463-000.

Applicants: High Island Offshore System, L.L.C.

Description: 2017 Annual Fuel Filing of High Island Offshore System, L.L.C.

Filed Date: 02/28/2017.

Accession Number: 20170228-5314.

Comment Date: 5:00 p.m. Eastern Time on Monday, March 13, 2017.

Docket Numbers: RP16-137-010.

Applicants: Tallgrass Interstate Gas Transmission, L.

Description: Tallgrass Interstate Gas Transmission, LLC submits tariff filing per 154.203: 2017-03-01 Modernized TIGT Tariff to be effective 4/1/2017.

Filed Date: 03/01/2017.

Accession Number: 20170301-5275.

Comment Date: 5:00 p.m. Eastern Time on Monday, March 13, 2017.

Docket Numbers: RP17-464-000.

Applicants: Gulf South Pipeline Company, LP.

Description: Gulf South Pipeline Company, LP submits tariff filing per 154.204: Cap Rel Neg Rate Agmt (PH 41455 to Texla 47736) to be effective 3/1/2017.

Filed Date: 03/01/2017.

Accession Number: 20170301-5031.

Comment Date: 5:00 p.m. Eastern Time on Monday, March 13, 2017.

Docket Numbers: RP17-465-000.

Applicants: Gulf South Pipeline Company, LP.

Description: Gulf South Pipeline Company, LP submits tariff filing per 154.204: Cap Rel Neg Rate Agmt (Encana 37663 to Texla 47738) to be effective 3/1/2017.

Filed Date: 03/01/2017.

Accession Number: 20170301-5034.

Comment Date: 5:00 p.m. Eastern Time on Monday, March 13, 2017.

Docket Numbers: RP17-466-000.

Applicants: Columbia Gas Transmission, LLC.

Description: Columbia Gas Transmission, LLC submits tariff filing per 154.403: EPCA 2017 to be effective 4/1/2017.

Filed Date: 03/01/2017.

Accession Number: 20170301-5067.

Comment Date: 5:00 p.m. Eastern Time on Monday, March 13, 2017.

Docket Numbers: RP17-467-000.

Applicants: Columbia Gas Transmission, LLC.

Description: Columbia Gas Transmission, LLC submits tariff filing per 154.204: RAM 2017 to be effective 4/1/2017.

Filed Date: 03/01/2017.

Accession Number: 20170301-5072.

Comment Date: 5:00 p.m. Eastern Time on Monday, March 13, 2017.

Docket Numbers: RP17-468-000.

Applicants: Crossroads Pipeline Company.

Description: Crossroads Pipeline Company submits tariff filing per 154.204: TRA 2017 to be effective4/1/2017.

Filed Date: 03/01/2017.

Accession Number: 20170301-5077.

Comment Date: 5:00 p.m. Eastern Time on Monday, March 13, 2017.

Docket Numbers: RP17-469-000.

Applicants: Central Kentucky Transmission Company.

Description: Central Kentucky Transmission Company submits tariff filing per 154.204: RAM 2017 to be effective 4/1/2017.

Filed Date: 03/01/2017.

Accession Number: 20170301-5085.

Comment Date: 5:00 p.m. Eastern Time on Monday, March 13, 2017.

Docket Numbers: RP17-470-000.

Applicants: KO Transmission Company.

Description: KO Transmission Company submits tariff filing per 154.403: Transportation Retainage Adjustment Filing 2017 to be effective 4/1/2017.

Filed Date: 03/01/2017.

Accession Number: 20170301-5089.

Comment Date: 5:00 p.m. Eastern Time on Monday, March 13, 2017.

Docket Numbers: RP17-471-000.

Applicants: Trunkline Gas Company, LLC.

Description: Trunkline Gas Company, LLC submits tariff filing per 154.204: Reservation Charge Crediting to be effective 4/1/2017.

Filed Date: 03/01/2017.

Accession Number: 20170301-5091.

Comment Date: 5:00 p.m. Eastern Time on Monday, March 13, 2017.

Docket Numbers: RP17-472-000.

Applicants: Garden Banks Gas Pipeline, LLC.

Description: Garden Banks Gas Pipeline, LLC submits tariff filing per 154.203: Garden Banks Re-collation filing for Tariff Shark to be effective 3/1/2017.

Filed Date: 03/01/2017.

Accession Number: 20170301-5108.

Comment Date: 5:00 p.m. Eastern Time on Monday, March 13, 2017.

Docket Numbers: RP17-473-000.

Applicants: Columbia Gas Transmission, LLC.

Description: Columbia Gas Transmission, LLC submits tariff filing per 154.403(d)(2): TCRA 2017 to be effective 4/1/2017.

Filed Date: 03/01/2017.

Accession Number: 20170301-5110.

Comment Date: 5:00 p.m. Eastern Time on Monday, March 13, 2017.

Docket Numbers: RP17-474-000.

Applicants: Nautilus Pipeline Company, L.L.C.

Description: Nautilus Pipeline Company, L.L.C. submits tariff filing per 154.203: Nautilus Re-collation filing for Tariff Shark to be effective 3/1/2017.

Filed Date: 03/01/2017.

Accession Number: 20170301-5129.

Comment Date: 5:00 p.m. Eastern Time on Monday, March 13, 2017.

Docket Numbers: RP17-475-000.

Applicants: Mississippi Canyon Gas Pipeline, L.L.C.

Description: Mississippi Canyon Gas Pipeline, L.L.C. submits tariff filing per 154.203: Mississippi Canyon Re-collation filing Tariff Shark to be effective 3/1/2017.

Filed Date: 03/01/2017.

Accession Number: 20170301-5138.

Comment Date: 5:00 p.m. Eastern Time on Monday, March 13, 2017.

Docket Numbers: RP17-476-000.

Applicants: Black Hills Shoshone Pipeline, LLC.

Description: Black Hills Shoshone Pipeline, LLC submits tariff filing per 154.203: Annual Adjustment for Lost nad Unaccounted for Gas Percentage to be effective 4/1/2017.

Filed Date: 03/01/2017.

Accession Number: 20170301-5146.

Comment Date: 5:00 p.m. Eastern Time on Monday, March 13, 2017.

Docket Numbers: RP17-477-000.

Applicants: WBI Energy Transmission, Inc.

Description: WBI Energy Transmission, Inc. submits tariff filing per 154.204: 2017 Negotiated Rate SA FT-1377 to be effective 4/1/2017.

Filed Date: 03/01/2017.

Accession Number: 20170301-5147.

Comment Date: 5:00 p.m. Eastern Time on Monday, March 13, 2017.

Docket Numbers: RP17-478-000.

Applicants: Dauphin Island Gathering Partners.

Description: 2017 Storm Surcharge Filing of Dauphin Island Gathering Partners.

Filed Date: 03/01/2017.

Accession Number: 20170301-5150.

Comment Date: 5:00 p.m. Eastern Time on Monday, March 13, 2017.

Docket Numbers: RP17-479-000.

Applicants: Ruby Pipeline, L.L.C.

Description: Ruby Pipeline, L.L.C. submits tariff filing per 154.403(d)(2): FL&U and EPC Update to be effective 4/1/2017.

Filed Date: 03/01/2017.

Accession Number: 20170301-5151.

Comment Date: 5:00 p.m. Eastern Time on Monday, March 13, 2017.

Docket Numbers: RP17-480-000.

Applicants: Viking Gas Transmission Company.

Description: Viking Gas Transmission Company submits tariff filing per 154.204: Annual LMCRA—Spring 2017 to be effective 4/1/2017.

Filed Date: 03/01/2017.

Accession Number: 20170301-5154.

Comment Date: 5:00 p.m. Eastern Time on Monday, March 13, 2017.

Docket Numbers: RP17-481-000.

Applicants: Guardian Pipeline, L.L.C.

Description: Guardian Pipeline, L.L.C. submits tariff filing per 154.204: EPCR Semi-Annual Adjustment—Spring 2017 to be effective 4/1/2017.

Filed Date: 03/01/2017.

Accession Number: 20170301-5157.

Comment Date: 5:00 p.m. Eastern Time on Monday, March 13, 2017.

Docket Numbers: RP17-482-000.

Applicants: El Paso Natural Gas Company, L.L.C.

Description: El Paso Natural Gas Company, L.L.C. submits tariff filing per 154.601: Non Conforming Negotiated Rate Update (TEP Mar 17) to be effective 4/1/2017.

Filed Date: 03/01/2017.

Accession Number: 20170301-5160.

Comment Date: 5:00 p.m. Eastern Time on Monday, March 13, 2017.

Docket Numbers: RP17-483-000.

Applicants: Viking Gas Transmission Company.

Description: Viking Gas Transmission Company submits tariff filing per 154.204: Semi-Annual FLRP—Spring 2017 to be effective 4/1/2017.

Filed Date: 03/01/2017.

Accession Number: 20170301-5161.

Comment Date: 5:00 p.m. Eastern Time on Monday, March 13, 2017.

Docket Numbers: RP17-484-000.

Applicants: Young Gas Storage Company, Ltd.

Description: Young Gas Storage Company, Ltd. submits tariff filing per 154.204: Index Price Update Filing to be effective 4/1/2017.

Filed Date: 03/01/2017.

Accession Number: 20170301-5162.

Comment Date: 5:00 p.m. Eastern Time on Monday, March 13, 2017.

Docket Numbers: RP17-485-000.

Applicants: WBI Energy Transmission, Inc.

Description: WBI Energy Transmission, Inc. submits tariff filing per 154.204: 2017 Annual Fuel & Electric Power Reimbursement to be effective 4/1/2017.

Filed Date: 03/01/2017.

Accession Number: 20170301-5163.

Comment Date: 5:00 p.m. Eastern Time on Monday, March 13, 2017.

Docket Numbers: RP17-486-000.

Applicants: Colorado Interstate Gas Company, L.L.C.

Description: Colorado Interstate Gas Company, L.L.C. submits tariff filing per 154.204: Index Price Update Filing to be effective 4/1/2017.

Filed Date: 03/01/2017.

Accession Number: 20170301-5164.

Comment Date: 5:00 p.m. Eastern Time on Monday, March 13, 2017.

Docket Numbers: RP17-487-000.

Applicants: Columbia Gas Transmission, LLC.

Description: 2016 Operational Transactions Report of Columbia Gas Transmission, LLC.

Filed Date: 03/01/2017.

Accession Number: 20170301-5215.

Comment Date: 5:00 p.m. Eastern Time on Monday, March 13, 2017.

Docket Numbers: RP17-488-000.

Applicants: Equitrans, L.P.

Description: Equitrans, L.P. submits tariff filing per 154.204: Negotiated Capacity Release Agreements—3/1/17 to be effective 3/1/2017.

Filed Date: 03/01/2017.

Accession Number: 20170301-5214.

Comment Date: 5:00 p.m. Eastern Time on Monday, March 13, 2017.

Docket Numbers: RP17-489-000.

Applicants: Columbia Gulf Transmission, LLC.

Description: 2016 Operational Transactions Report of Columbia Gulf Transmission, LLC.

Filed Date: 03/01/2017.

Accession Number: 20170301-5216.

Comment Date: 5:00 p.m. Eastern Time on Monday, March 13, 2017.

Docket Numbers: RP17-490-000.

Applicants: Hardy Storage Company, LLC.

Description: 2016 Operational Transactions Report of Hardy Storage Company, LLC.

Filed Date: 03/01/2017.

Accession Number: 20170301-5217.

Comment Date: 5:00 p.m. Eastern Time on Monday, March 13, 2017.

Docket Numbers: RP17-491-000.

Applicants: Crossroads Pipeline Company.

Description: 2016 Operational Transactions Report of Crossroads Pipeline Company.

Filed Date: 03/01/2017.

Accession Number: 20170301-5218.

Comment Date: 5:00 p.m. Eastern Time on Monday, March 13, 2017.

Docket Numbers: RP17-492-000.

Applicants: TransColorado Gas Transmission Company L.

Description: 2016 Annual Fuel Gas Reimbursement Percentage Report of TransColorado Gas Transmission Company, LLC.

Filed Date: 03/01/2017.

Accession Number: 20170301-5219.

Comment Date: 5:00 p.m. Eastern Time on Monday, March 13, 2017.

Docket Numbers: RP17-493-000.

Applicants: High Point Gas Transmission, LLC.

Description: Annual Unaccounted for Gas Retention Filing of High Point Gas Transmission, LLC.

Filed Date: 03/01/2017.

Accession Number: 20170301-5221.

Comment Date: 5:00 p.m. Eastern Time on Monday, March 13, 2017.

Docket Numbers: RP17-494-000.

Applicants: Transcontinental Gas Pipe Line Company.

Description: Transcontinental Gas Pipe Line Company, LLC submits tariff filing per 154.204: Dalton Expansion Intial Rate Filing to be effective 4/1/2017.

Filed Date: 03/01/2017.

Accession Number: 20170301-5245.

Comment Date: 5:00 p.m. Eastern Time on Monday, March 13, 2017.

Docket Numbers: RP17-495-000.

Applicants: Cameron Interstate Pipeline, LLC.

Description: Cameron Interstate Pipeline, LLC submits tariff filing per 154.203: Cameron Interstate Pipeline, LLC Compliance Filing to be effective 3/1/2017.

Filed Date: 03/01/2017.

Accession Number: 20170301-5255.

Comment Date: 5:00 p.m. Eastern Time on Monday, March 13, 2017.

Docket Numbers: RP17-496-000.

Applicants: Stingray Pipeline Company, L.L.C.

Description: Stingray Pipeline Company, L.L.C. submits tariff filing per 154.204: Stingray Extension of Time Provision to be effective 3/31/2017.

Filed Date: 03/01/2017.

Accession Number: 20170301-5257.

Comment Date: 5:00 p.m. Eastern Time on Monday, March 13, 2017.

Docket Numbers: RP17-497-000.

Applicants: Columbia Gulf Transmission, LLC.

Description: Columbia Gulf Transmission, LLC submits tariff filing per 154.204: TRA 2017 to be effective 4/1/2017.

Filed Date: 03/01/2017.

Accession Number: 20170301-5258.

Comment Date: 5:00 p.m. Eastern Time on Monday, March 13, 2017.

Docket Numbers: RP17-498-000.

Applicants: Cameron Interstate Pipeline, LLC.

Description: Cameron Interstate Pipeline, LLC submits tariff filing per 154.204: Cameron Interstate Pipeline, LLC Limited Section 4 Rate Change to be effective 3/1/2017.

Filed Date: 03/01/2017.

Accession Number: 20170301-5265.

Comment Date: 5:00 p.m. Eastern Time on Monday, March 13, 2017.

Docket Numbers: RP17-499-000.

Applicants: Cameron Interstate Pipeline, LLC.

Description: Cameron Interstate Pipeline, LLC submits tariff filing per 154.203: Cameron Interstate Pipeline, LLC Negotiated Rate and Non-Conforming Agreements to be effective 3/1/2017.

Filed Date: 03/01/2017.

Accession Number: 20170301-5276.

Comment Date: 5:00 p.m. Eastern Time on Monday, March 13, 2017.

Docket Numbers: RP17-500-000.

Applicants: Enable Gas Transmission, LLC.

Description: Enable Gas Transmission, LLC submits tariff filing per 154.204: Negotiated Rate Filing- March 2017 SWEPCO 1006888 to be effective 3/1/2017.

Filed Date: 03/01/2017.

Accession Number: 20170301-5284.

Comment Date: 5:00 p.m. Eastern Time on Monday, March 13, 2017.

Docket Numbers: RP17-501-000.

Applicants: Tennessee Gas Pipeline Company, L.L.C.

Description: Tennessee Gas Pipeline Company, L.L.C. submits tariff filing per 154.204: Fuel Tracker 2017 to be effective 4/1/2017.

Filed Date: 03/01/2017.

Accession Number: 20170301-5288.

Comment Date: 5:00 p.m. Eastern Time on Monday, March 13, 2017.

Docket Numbers: RP17-502-000.

Applicants: Millennium Pipeline Company, LLC.

Description: Millennium Pipeline Company, LLC submits tariff filing per 154.204: RAM 2017 to be effective 4/1/2017.

Filed Date: 03/01/2017.

Accession Number: 20170301-5294.

Comment Date: 5:00 p.m. Eastern Time on Monday, March 13, 2017.

Docket Numbers: RP17-503-000.

Applicants: El Paso Natural Gas Company, L.L.C.

Description: El Paso Natural Gas Company, L.L.C. submits tariff filing per 154.204: Non-Conforming Negotiated Rate Agreement Filing (CFE) to be effective 4/1/2017.

Filed Date: 03/01/2017.

Accession Number: 20170301-5300.

Comment Date: 5:00 p.m. Eastern Time on Monday, March 13, 2017.

Docket Numbers: RP17-504-000.

Applicants: El Paso Natural Gas Company, L.L.C.

Description: El Paso Natural Gas Company, L.L.C. submits tariff filing per 154.204: Index Price Update Filing to be effective 4/1/2017.

Filed Date: 03/01/2017.

Accession Number: 20170301-5301.

Comment Date: 5:00 p.m. Eastern Time on Monday, March 13, 2017.

Docket Numbers: RP17-505-000.

Applicants: Wyoming Interstate Company, L.L.C.

Description: Wyoming Interstate Company, L.L.C. submits tariff filing per 154.204: Index Price Update Filing to be effective 4/1/2017.

Filed Date: 03/01/2017.

Accession Number: 20170301-5303.

Comment Date: 5:00 p.m. Eastern Time on Monday, March 13, 2017.

Docket Numbers: RP17-506-000.

Applicants: Transcontinental Gas Pipe Line Company.

Description: Transcontinental Gas Pipe Line Company, LLC submits tariff filing per 154.204: Negotiated Rates—Dalton Expansion (Partial In-Service) to be effective 4/1/2017.

Filed Date: 03/01/2017.

Accession Number: 20170301-5304.

Comment Date: 5:00 p.m. Eastern Time on Monday, March 13, 2017.

Docket Numbers: RP17-507-000.

Applicants: Cimarron River Pipeline, LLC.

Description: Cimarron River Pipeline, LLC submits tariff filing per 154.204: Tariff Sections Update to be effective 4/1/2017.

Filed Date: 03/01/2017.

Accession Number: 20170301-5305.

Comment Date: 5:00 p.m. Eastern Time on Monday, March 13, 2017.

Docket Numbers: RP17-508-000.

Applicants: Cheyenne Plains Gas Pipeline Company, L.

Description: Cheyenne Plains Gas Pipeline Company, L.L.C. submits tariff filing per 154.204: Index Price Update Filing to be effective 4/1/2017.

Filed Date: 03/01/2017.

Accession Number: 20170301-5307.

Comment Date: 5:00 p.m. Eastern Time on Monday, March 13, 2017.

Docket Numbers: RP17-509-000.

Applicants: Sierrita Gas Pipeline LLC.

Description: Sierrita Gas Pipeline LLC submits tariff filing per 154.204: Index Price Update Filing to be effective 4/1/2017.

Filed Date: 03/01/2017.

Accession Number: 20170301-5309.

Comment Date: 5:00 p.m. Eastern Time on Monday, March 13, 2017.

Docket Numbers: RP17-513-000.

Applicants: Millennium Pipeline Company, LLC.

Description: Operational Transactions Report of Millennium Pipeline Company, LLC.

Filed Date: 03/01/2017.

Accession Number: 20170301-5313.

Comment Date: 5:00 p.m. Eastern Time on Monday, March 13, 2017.

Docket Numbers: RP17-514-000.

Applicants: Cheniere Creole Trail Pipeline, L.P.

Description: Cheniere Creole Trail Pipeline, L.P.Transportation Retainage Adjustment Informational Filing.

Filed Date: 03/01/2017.

Accession Number: 20170301-5322.

Comment Date: 5:00 p.m. Eastern Time on Monday, March 13, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated March 2, 2017.
Nathaniel J. Davis, Sr.,
Deputy Secretary.

[FR Doc. 2017-04728 Filed 3-9-17; 8:45 am]

BILLING CODE 6717-01-P